DEPARTMENT OF EDUCATION

Withdrawal of Notice Inviting Applications and Cancellation of the Competition for the National Center on Rigorous Comprehensive Education for Students with Disabilities

AGENCY: Office of Special Education and Rehabilitative Services, Department of Education.

ACTION: Notice; withdrawal.

SUMMARY: The U.S. Department of Education (Department) withdraws the notice inviting applications (NIA) and cancels the competition for fiscal year (FY) 2024 for the Technical Assistance and Dissemination to Improve Services and Results for Children with Disabilities—National Center on Rigorous Comprehensive Education for Students with Disabilities competition, Assistance Listing Number 84.326C.

DATES: The NIA published in the Federal Register on February 22, 2024 (89 FR 13315), is withdrawn and the competition cancelled as of April 24, 2024.

FOR FURTHER INFORMATION CONTACT: David Emenheiser, U.S. Department of Education, 400 Maryland Avenue SW, Room 4A10, Washington, DC 20202. Telephone: (202) 987-0124. Email: David.Emenheiser@ed.gov.

If you are deaf, hard of hearing, or have a speech disability and wish to access telecommunications relay services, please dial 7-1-1.

SUPPLEMENTARY INFORMATION: On February 22, 2024, the Department published in the Federal Register (89 FR 13315) an NIA for the FY 2024 National Center on Rigorous Comprehensive Education for Students with Disabilities competition, ALN 84.326C. Following the publication of the NIA, the President signed the Further Consolidated Appropriations Act, 2024 (Pub. L. 118-47), which decreased funding for the Technical Assistance and Dissemination to Improve Services and Results for Children with Disabilities program. Due to the decrease in funding for the Technical Assistance and Dissemination to Improve Services and Results for Children with Disabilities program, the Department is withdrawing the NIA and cancelling the National Center on Rigorous Comprehensive Education for Students with Disabilities competition. Information about Technical Assistance and Dissemination to Improve Services and Results for Children with Disabilities is available on the Department's website at https://www2.ed.gov/programs/oseptad/index.html.

Program Authority: 20 U.S.C. 1463 and 1481.

Intergovernmental Review: This program is subject to Executive Order 12372 and the regulations in 34 CFR part 79.

Accessible Format: On request to the program contact person listed under FOR FURTHER INFORMATION CONTACT, individuals with disabilities can obtain this notice, the NIA, and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site, you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Glenna Wright-Gallo,
Assistant Secretary for Special Education and Rehabilitative Services.

[FR Doc. 2024-08759 Filed 4-19-24; 4:15 pm]

BILLING CODE 4000-01-P